DEPARTMENT OF HOMELAND SECURITY

Transportation Security Administration

49 CFR Parts 1515, 1540, and 1572

[Docket No. TSA-2006-24191; TSA Amendment Nos. 1515—(New), 1540-8, 1570-2, and 1572-7]

RIN 1652-AA41

Transportation Worker Identification Credential Implementation in the Maritime Sector; Hazardous Materials Endorsement for a Commercial Driver's License; Correction

AGENCY: Transportation Security Administration (TSA).

ACTION: Final rule; correction.

SUMMARY: This document contains corrections to the final rule published in the Federal Register on January 25, 2007. That rule requires credentialed merchant mariners and workers with unescorted access to secure areas of vessels and facilities to undergo a security threat assessment and receive a biometric credential, known as a Transportation Worker Identification Credential (TWIC). This rule correction revises a paragraph of the appeal and waiver process in part 1515. In addition, this rule correction redesignates a paragraph in part 1540 under the procedures for security threat assessment and revises text in part 1572 concerning the list of disqualifying offenses. These revisions are necessary to correct typographical errors and in one instance, to remove a word from a definition as mandated by recent legislative action.

DATES: Effective March 26, 2007.

FOR FURTHER INFORMATION CONTACT: Christine Beyer, TSA-2, Transportation Security Administration, 601 South 12th Street, Arlington, VA 22202-4220; telephone (571) 227-2657; facsimile (571) 227-1380; e-mail Christine.Beyer@dhs.gov.

SUPPLEMENTARY INFORMATION:

Background

On January 25, 2007, the Department of Homeland Security, through TSA and the U.S. Coast Guard (Coast Guard) published a final rule in the Federal Register (72 FR 3492) making technical changes to various provisions of chapter XII, title 49 (Transportation) of the Code of Federal Regulations (CFR), and implementing the TWIC program in the maritime sector of the nation's transportation system. The final rule enhances port security by requiring security threat assessments of individuals who have unescorted access to secure areas and improving access control measures to prevent unauthorized individuals from gaining unescorted access to secure areas. The final rule amends existing appeal and waiver procedures, and expands the provisions to apply to TWIC applicants and air cargo personnel.

This rule correction document revises a paragraph in the appeal and waiver process codified in part 1515, redesignates a paragraph codified in part 1540 procedures for security threat assessment, and revises text in the list of disqualifying offenses codified in part 1572. Finally, we re-word the definition of “transportation security incident” in § 1572.103(a)(5). This definition is based on the definition of “transportation security incident” in 46 U.S.C. 70101(6), which was amended by sec. 124 of the SAFE Port Act, Public Law 109-347. We are amending the rule to conform to that statute.

Correction

In rule FR Doc. 07-19, published on January 25, 2007 (72 FR 3492), make the following corrections:

§ 1515.11 [Corrected]

1. On page 3590, in the third column, paragraph (b)(1)(i) under § 1515.11 Review by administrative law judge and TSA Final Decision Maker, is corrected to read as follows:

§ 1515.11 Review by administrative law judge and TSA Final Decision Maker.

* * * * *

(b) * * *

(1) * * *

(i) In the case of a review of a denial of waiver, a copy of the applicant's request for a waiver under 49 CFR 1515.7, including all materials provided by the applicant to TSA in support of the waiver request; and a copy of the decision issued by TSA denying the waiver request. The request for review may not include evidence or information that was not presented to TSA in the request for a waiver under 49 CFR 1515.7. The ALJ may consider only evidence or information that was presented to TSA in the waiver request. If the applicant has new evidence or information, the applicant must file a new request for a waiver under § 1515.7 and the pending request for review of a denial of a waiver will be dismissed.

* * * * *

§ 1540.205 [Corrected]

2. On page 3593 in the first column, redesignate paragraph (e) as paragraph (d) under § 1540.205 Procedures for security threat assessment.

§ 1572.103 [Corrected]

3. On page 3600, in the second column, paragraphs (a)(5) and (a)(10) under § 1572.103 Disqualifying criminal offenses, are corrected to read as follows:

§ 1572.103 Disqualifying criminal offenses.

* * * * *

(a) * * *

(5) A crime involving a transportation security incident. A transportation security incident is a security incident resulting in a significant loss of life, environmental damage, transportation system disruption, or economic disruption in a particular area, as defined in 46 U.S.C. 70101. The term “economic disruption” does not include a work stoppage or other employee-related action not related to terrorism and resulting from an employer-employee dispute.

* * * * *

(10) Violations of the Racketeer Influenced and Corrupt Organizations Act, 18 U.S.C. 1961, et seq., or a comparable State law, where one of the predicate acts found by a jury or admitted by the defendant, consists of one of the crimes listed in paragraph (a) of this section.

* * * * *

4. On pages 3600 in the third column and page 3601 in the first column, paragraphs (b)(2)(xii) through (xiii) under § 1572.103 Disqualifying criminal offenses, are corrected to read as follows:

§ 1572.103 Disqualifying criminal offenses.

* * * * *

(b) * * *

(2) * * *

(xii) Fraudulent entry into a seaport as described in 18 U.S.C. 1036, or a comparable State law.

(xiii) Violations of the Racketeer Influenced and Corrupt Organizations Act, 18 U.S.C. 1961, et seq., or a comparable State law, other than the violations listed in paragraph (a)(10) of this section.

* * * * *

Issued in Arlington, Virginia, on February 1, 2007.
Mardi Ruth Thompson,
Deputy Chief Counsel for Regulations, Transportation Security Administration.

[FR Doc. E7-1952 Filed 2-6-07; 8:45 am]

BILLING CODE 9110-05-P